DEPARTMENT OF COMMERCE

Office of the Secretary

13 CFR Ch. III

15 CFR Subtitle A; Subtitle B, Chs. I, II, III, VII, VIII, IX, and XI

19 CFR Ch. III

37 CFR Chs. I, IV, and V

48 CFR Ch. 13

50 CFR Chs. II, III, IV, and VI

Fall 2020 Semiannual Agenda of Regulations

AGENCY: Office of the Secretary, Commerce.

ACTION: Semiannual regulatory agenda.

SUMMARY: In compliance with Executive Order 12866, entitled “Regulatory Planning and Review,” and the Regulatory Flexibility Act, as amended, the Department of Commerce (Commerce), in the spring and fall of each year, publishes in the Federal Register an agenda of regulations under development or review over the next 12 months. Rulemaking actions are grouped according to pre-rulemaking, proposed rules, final rules, long-term actions, and rulemaking actions completed since the spring 2020 agenda. The purpose of the Agenda is to provide information to the public on regulations that are currently under review, being proposed, or issued by Commerce. The agenda is intended to facilitate comments and views by interested members of the public.

Commerce's fall 2020 regulatory agenda includes regulatory activities that are expected to be conducted during the period November 1, 2020, through October 31, 2021.

FOR FURTHER INFORMATION CONTACT:

Specific: For additional information about specific regulatory actions listed in the agenda, contact the individual identified as the contact person.

General: Comments or inquiries of a general nature about the agenda should be directed to Asha Mathew, Chief Counsel for Regulation, Office of the Assistant General Counsel for Legislation and Regulation, U.S. Department of Commerce, Washington, DC 20230, telephone: 202-482-3151.

SUPPLEMENTARY INFORMATION: Commerce hereby publishes its fall 2020 Unified Agenda of Federal Regulatory and Deregulatory Actions pursuant to Executive Order 12866 and the Regulatory Flexibility Act, 5 U.S.C. 601 et seq. Executive Order 12866 requires agencies to publish an agenda of those regulations that are under consideration pursuant to this order. By memorandum of August 11, 2020, the Office of Management and Budget issued guidelines and procedures for the preparation and publication of the fall 2020 Unified Agenda. The Regulatory Flexibility Act requires agencies to publish, in the spring and fall of each year, a regulatory flexibility agenda that contains a brief description of the subject of any rule likely to have a significant economic impact on a substantial number of small entities.

Beginning with the fall 2007 edition, the internet became the basic means for disseminating the Unified Agenda. The complete Unified Agenda is available online at www.reginfo.gov, in a format that offers users a greatly enhanced ability to obtain information from the Agenda database.

In this edition of Commerce's regulatory agenda, a list of the most important significant regulatory and deregulatory actions and a Statement of Regulatory Priorities are included in the Regulatory Plan, which appears in both the online Unified Agenda and in part II of the issue of the Federal Register that includes the Unified Agenda.

Because publication in the Federal Register is mandated for the regulatory flexibility agendas required by the Regulatory Flexibility Act, Commerce's printed agenda entries include only:

(1) Rules that are in the Agency's regulatory flexibility agenda, in accordance with the Regulatory Flexibility Act, because they are likely to have a significant economic impact on a substantial number of small entities; and

(2) Rules that the Agency has identified for periodic review under section 610 of the Regulatory Flexibility Act.

Printing of these entries is limited to fields that contain information required by the Regulatory Flexibility Act's Agenda requirements. Additional information on these entries is available in the Unified Agenda published on the internet. In addition, for fall editions of the Agenda, Commerce's entire Regulatory Plan will continue to be printed in the Federal Register.

Within Commerce, the Office of the Secretary and various operating units may issue regulations. Among these operating units, the National Oceanic and Atmospheric Administration (NOAA), the Bureau of Industry and Security, and the Patent and Trademark Office issue the greatest share of Commerce's regulations.

A large number of regulatory actions reported in the Agenda deal with fishery management programs of NOAA's National Marine Fisheries Service (NMFS). To avoid repetition of programs and definitions, as well as to provide some understanding of the technical and institutional elements of NMFS' programs, an “Explanation of Information Contained in NMFS Regulatory Entries” is provided below.

Explanation of Information Contained in NMFS Regulatory Entries

The Magnuson-Stevens Fishery Conservation and Management Act (16 U.S.C. 1801 et seq.) (the Act) governs the management of fisheries within the Exclusive Economic Zone of the United States (EEZ). The EEZ refers to those waters from the outer edge of the State boundaries, generally 3 nautical miles, to a distance of 200 nautical miles. For fisheries that require conservation and management measures, eight Regional Fishery Management Councils (Councils) prepare and submit to NMFS Fishery Management Plans (FMPs) for the fisheries within their respective areas in the EEZ. Membership of these Councils is comprised of representatives of the commercial and recreational fishing sectors in addition to environmental, academic, and government interests. Council members are nominated by the governors and ultimately appointed by the Secretary of Commerce. The Councils are required by law to conduct public hearings on the development of FMPs and FMP amendments. Consistent with applicable law, environmental and other analyses are developed that consider alternatives to proposed actions.

Pursuant to the Magnuson-Stevens Act, the Councils also submit to NMFS proposed regulations they deem necessary or appropriate to implement FMPs. The proposed regulations, FMPs, and FMP amendments are subject to review and approval by NMFS, based on consistency with the Magnuson-Stevens Act and other applicable law. The Council process for developing FMPs and amendments makes it difficult for NMFS to determine the significance and timing of some regulatory actions under consideration by the Councils at the time the semiannual regulatory agenda is published.

Commerce's fall 2020 regulatory agenda follows.

This document of the Department of Commerce was signed on January 14, by Michael Walsh, Chief of Staff, Performing the Delegated Duties of General Counsel. That document with the original signature and date is maintained by the Department of Commerce. For administrative purposes only, and in compliance with requirements of the Office of the Federal Register, the undersigned Department of Commerce Federal Register Liaison Officer has been authorized to sign and submit the document in electronic format for publication, as an official document of the Department of Commerce. This administrative process in no way alters the legal effect of this document upon publication in the Federal Register.

Signed in Washington, DC, on January 14, 2021.
Asha Mathew,
Federal Register Liaison Officer, U.S. Department of Commerce.

General Administration—Final Rule Stage
Sequence No. | Title | Regulation Identifier No.
144 | Concrete Masonry Products Research, Education, and Promotion | 0605-AA53

International Trade Administration—Final Rule Stage
Sequence No. | Title | Regulation Identifier No.
145 | Modifications to Regulations to Improve Administration and Enforcement of Antidumping and Countervailing Duty Laws | 0625-AB10

National Oceanic and Atmospheric Administration—Proposed Rule Stage
Sequence No. | Title | Regulation Identifier No.
146 | Comprehensive Fishery Management Plan for Puerto Rico, Comprehensive Fishery Management Plan for St. Croix, Comprehensive Fishery Management Plan for St. Thomas/St. John | 0648-BD32
147 | International Fisheries; South Pacific Tuna Fisheries; Implementation of Amendments to the South Pacific Tuna Treaty | 0648-BG04
148 | Illegal, Unregulated, and Unreported Fishing; Fisheries Enforcement; High Seas Driftnet Fishing Moratorium Protection Act (Reg Plan Seq No. 6) | 0648-BG11
149 | Regulatory Amendment to the Pacific Coast Groundfish Fishery Management Plan to Implement an Electronic Monitoring Program for Bottom Trawl and Non-Whiting Midwater Trawl Vessels | 0648-BH70
150 | Atlantic Highly Migratory Species; Research and Data Collection in Support of Spatial Fisheries Management | 0648-BI10
151 | Establish National Insurance Requirements for Observer Providers | 0648-BJ33
152 | Salmon Bycatch Minimization in the Pacific Coast Groundfish Fishery | 0648-BJ50
153 | 2021-22 Harvest Specifications and Management Measures for Pacific Coast Groundfish and Fishery Management Plan | 0648-BJ74
154 | International Fisheries; Pacific Tuna Fisheries; Fishing Restrictions for Tropical Tuna in the Eastern Pacific Ocean for 2021 | 0648-BK08
155 | Framework Adjustment 8 to the Atlantic Herring Fishery Management Plan | 0648-BK11
156 | Designation of Critical Habitat for the Arctic Ringed Seal | 0648-BC56
157 | Amendment and Updates to the Pelagic Longline Take Reduction Plan | 0648-BF90
158 | Designation of Critical Habitat for the Threatened Caribbean Corals | 0648-BG26
159 | Atlantic Large Whale Take Reduction Plan Modifications to Reduce Serious Injury and Mortality of Large Whales in Commercial Trap/Pot Fisheries Along the U.S. East Coast (Reg Plan Seq No. 7) | 0648-BJ09
160 | Designation of Critical Habitat for Threatened Indo-Pacific Reef-Building Corals | 0648-BJ52
161 | Establishment of Time-Area Closures for Hawaiian Spinner Dolphins Under the Marine Mammal Protection Act | 0648-BK04
References in boldface appear in The Regulatory Plan in part II of this issue of the Federal Register.

National Oceanic and Atmospheric Administration—Final Rule Stage
Sequence No. | Title | Regulation Identifier No.
162 | International Fisheries; Western and Central Pacific Fisheries for Highly Migratory Species; Requirements to Safeguard Fishery Observers | 0648-BG66
163 | Area of Overlap Between the Convention Areas of the Inter-American Tropical Tuna Commission and the Western and Central Pacific Fisheries Commission | 0648-BH59
164 | Omnibus Deep-Sea Coral Amendment | 0648-BH67
165 | Generic Amendment to the Fishery Management Plans for the Reef Fish Resources of the Gulf of Mexico and Coastal Migratory Pelagic Resources in the Gulf of Mexico and Atlantic Region | 0648-BH72
166 | Magnuson-Stevens Fisheries Conservation and Management Act; Traceability Information Program for Seafood | 0648-BH87
167 | Atlantic Highly Migratory Species; Regulatory Amendment for the Management of Atlantic Swordfish | 0648-BI09
168 | Amendment 8 to the Atlantic Herring Fishery Management Plan | 0648-BI80
169 | Amendment 21 to the Summer Flounder, Scup, and Black Sea Bass Fishery Management Plan | 0648-BJ18
170 | Modification of Multi-Day Trip Possession Limits for Federally-Permitted Charter/Headboat Vessels in the Fishery Management Plans (FMP) in the Gulf of Mexico | 0648-BJ60
171 | Reducing Disturbances to Hawaiian Spinner Dolphins From Human Interactions | 0648-AU02
172 | Taking and Importing Marine Mammals: Taking Marine Mammals Incidental to Geophysical Surveys Related to Oil and Gas Activities in the Gulf of Mexico (Reg Plan Seq No. 9) | 0648-BB38
173 | Revision to Critical Habitat Designation for Endangered Southern Resident Killer Whales | 0648-BH95
174 | Designation of Critical Habitat for the Mexico, Central American, and Western Pacific Distinct Population Segments of Humpback Whales Under the Endangered Species Act | 0648-BI06
175 | Wisconsin-Lake Michigan National Marine Sanctuary Designation | 0648-BG01
References in boldface appear in The Regulatory Plan in part II of this issue of the Federal Register.

National Oceanic and Atmospheric Administration—Long-Term Actions
Sequence No. | Title | Regulation Identifier No.
176 | Implementation of a Program for Transshipments by Large Scale Fishing Vessels in the Eastern Pacific Ocean | 0648-BD59
177 | International Fisheries; Western and Central Pacific Fisheries for Highly Migratory Species; Treatment of U.S. Purse Seine Fishing With Respect to U.S. Territories | 0648-BF41
178 | Bering Sea and Aleutian Islands Pacific Cod Pot Catcher/Processor License Limitation Program Adjustment | 0648-BJ42

National Oceanic and Atmospheric Administration—Completed Actions
Sequence No. | Title | Regulation Identifier No.
179 | Licensing of Private Land Remote-Sensing Space Systems | 0648-BA15
180 | Commerce Trusted Trader Program | 0648-BG51
181 | Rule to Implement the For-Hire Reporting Amendments | 0648-BG75
182 | New England Industry-Funded Monitoring Amendment | 0648-BG91
183 | Vessel Movement, Monitoring, and Declaration Management Enhancement for the Pacific Coast Groundfish Fishery; Pacific Coast Groundfish Fishery Management Plan | 0648-BI45
184 | Framework Adjustment 59 to the Northeast Multispecies Fishery Management Plan | 0648-BJ12
185 | Vessel Monitoring Systems; Amendment to Type-Approval Requirements | 0648-BJ15
186 | Amendment 21 to the Atlantic Mackerel, Squid, and Butterfish Fishery Management Plan | 0648-BJ16
187 | Regulatory Amendment to Adjust the North Pacific Observer Program Partial Coverage Fee | 0648-BJ40
188 | Amendment 121 to the Fishery Management Plan for Groundfish of the Bering Sea and Aleutian Islands Management Area and Amendment 110 to the Fishery Management Plan for Groundfish of the Gulf of Alaska | 0648-BJ49
189 | Atlantic Bluefish 2020-2021 Specifications and Recreational Management Measures | 0648-BJ61

Patent and Trademark Office—Final Rule Stage
Sequence No. | Title | Regulation Identifier No.
190 | Trademark Fee Adjustment (Reg Plan Seq No. 10) | 0651-AD42
References in boldface appear in The Regulatory Plan in part II of this issue of the Federal Register.

Patent and Trademark Office—Completed Actions
Sequence No. | Title | Regulation Identifier No.
191 | Setting and Adjusting Patent Fees During Fiscal Year 2020 | 0651-AD31

DEPARTMENT OF COMMERCE (DOC)

General Administration (ADMIN)

Final Rule Stage

144. Concrete Masonry Products Research, Education, and Promotion

E.O. 13771 Designation: Fully or Partially Exempt.

Legal Authority: 15 U.S.C. 8701 et seq.

Abstract: The Concrete Masonry Products Research, Education, and Promotion Act of 2018 (Act) (15 U.S.C. 8701 et seq.) authorizes the establishment of an orderly program for a program of research, education, and promotion, including funds for marketing and market research activities, that is designed to promote the use of concrete masonry products in construction and building (a checkoff program). The Act allows industry to submit a proposed order establishing such a program. If the Secretary determines that such a proposed order is consistent with and will effectuate the purpose of the Act, the Secretary is directed to publish the proposed order in the Federal Register not later than 90 days after receiving the order.

Timetable:

Action | Date | FR Cite
NPRM | 08/24/20 | 85 FR 52059
NPRM Comment Period End | 10/08/20 |
Final Action | 03/00/21 |

Regulatory Flexibility Analysis Required: Yes.

Agency Contact: Asha Mathew, Department of Commerce, 1401 Constitution Avenue NW, Washington, DC 20230, Phone: 202 306-0487, Email: amathew@doc.gov.

RIN: 0605-AA53

DEPARTMENT OF COMMERCE (DOC)

International Trade Administration (ITA)

Final Rule Stage

145. Modifications to Regulations To Improve Administration and Enforcement of Antidumping and Countervailing Duty Laws

E.O. 13771 Designation: Other.

Legal Authority: 19 U.S.C. 1671 et seq.; Pub. L. 114-125, sec. 421

Abstract: Pursuant to its authority under Title VII of the Tariff Act of 1930, as amended (the Act), the Department of Commerce (Commerce) issued a proposed rule to modify its regulations under part 351 of title 19 to improve administration and enforcement of the antidumping duty (AD) and countervailing duty (CVD) laws. Specifically, Commerce proposes to modify its regulation concerning the time for submission of comments pertaining to industry support in AD and CVD proceedings; to modify its regulation regarding new shipper reviews; to modify its regulation concerning scope matters in AD and CVD proceedings; to promulgate a new regulation concerning circumvention of AD and CVD orders; to promulgate a new regulation concerning covered merchandise referrals received from U.S. Customs and Border Protection (CBP); to promulgate a new regulation pertaining to Commerce requests for certifications from interested parties to establish whether merchandise is subject to an AD or CVD order; and to modify its regulation regarding importer reimbursement certifications filed with CBP. Finally, Commerce proposes to modify its regulations regarding letters of appearance in AD and CVD proceedings and importer filing requirements for access to business proprietary information.

Timetable:

Action | Date | FR Cite
NPRM | 08/13/20 | 85 FR 49472
Extension of Comment Period | 09/10/20 | 85 FR 55801
NPRM Comment Period End | 09/14/20
Extension of Comment Period End | 09/28/20
Final Action | 11/00/20

Regulatory Flexibility Analysis Required: Yes.

Agency Contact: Jessica Link, Department of Commerce, International Trade Administration, 1401 Constitution Avenue NW, Washington, DC 20230, Phone: 202 482-1411, Email: jessica.link@trade.gov.

RIN: 0625-AB10

DEPARTMENT OF COMMERCE (DOC)

National Oceanic and Atmospheric Administration (NOAA)

Proposed Rule Stage

National Marine Fisheries Service

146. Comprehensive Fishery Management Plan for Puerto Rico, Comprehensive Fishery Management Plan for ST. Croix, Comprehensive Fishery Management Plan for St. Thomas/St. John

E.O. 13771 Designation: Not subject to, not significant.

Legal Authority: 16 U.S.C. 1801 et seq.

Abstract: In response to a recommendation of the Caribbean Fishery Management Council, this action would establish three new FMPs (Puerto Rico FMP, St. Thomas/St. John FMP and St. Croix FMP) and repeal and replace the existing U.S. Caribbean-wide FMPs (the FMP for the Reef Fish Fishery of Puerto Rico and the U.S. Virgin Islands (USVI), the FMP for the Spiny Lobster Fishery of Puerto Rico and the USVI, the FMP for Queen Conch Resources of Puerto Rico and the USVI, and the FMP for the Corals and Reef Associated Plants and Invertebrates of Puerto Rico and the USVI). For each of the Puerto Rico, St. Thomas/St. John, and St. Croix FMPs, the action would also modify the composition of the stocks to be managed; organize those stocks for effective management; establish status determination criteria, management reference points, and accountability measures for managed stocks; identify essential fish habitat for stocks new to management; and establish framework measures.

Timetable:

Action | Date | FR Cite
Notice of Availability | 06/26/20 | 85 FR 38350
NPRM | 11/00/20

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BD32

147. International Fisheries; South Pacific Tuna Fisheries; Implementation of Amendments to the South Pacific Tuna Treaty

E.O. 13771 Designation: Not subject to, not significant.

Legal Authority: 16 U.S.C. 973 et seq.

Abstract: Under authority of the South Pacific Tuna Act of 1988, this rule would implement recent amendments to the Treaty on Fisheries between the Governments of Certain Pacific Island States and the Government of the United States of America (also known as the South Pacific Tuna Treaty). The rule would include modification to the procedures used to request licenses for U.S. vessels in the western and central Pacific Ocean purse seine fishery, including changing the annual licensing period from June-to-June to the calendar year, and modifications to existing reporting requirements for purse seine vessels fishing in the western and central Pacific Ocean. The rule would implement only those aspects of the Treaty amendments that can be implemented under the existing South Pacific Tuna Act.

Timetable:

Action | Date | FR Cite
NPRM | 02/00/21

Regulatory Flexibility Analysis Required: Yes.

Agency Contact: Michael Tosatto, Regional Administrator, Pacific Islands Region, Department of Commerce, National Oceanic and Atmospheric Administration, 1845 Wasp Boulevard, Building 176, Honolulu, HI 96818, Phone: 808 725-5000, Email: michael.tosatto@noaa.gov.

RIN: 0648-BG04

148. Illegal, Unregulated, and Unreported Fishing; Fisheries Enforcement; High Seas Driftnet Fishing Moratorium Protection Act

Regulatory Plan: This entry is Seq. No. 6 in part II of this issue of the Federal Register.

RIN: 0648-BG11

149. Regulatory Amendment to the Pacific Coast Groundfish Fishery Management Plan to Implement an Electronic Monitoring Program for Bottom Trawl and Non-Whiting Midwater Trawl Vessels

E.O. 13771 Designation: Deregulatory.

Legal Authority: 16 U.S.C. 1801 et seq.

Abstract: The proposed action would implement a regulatory amendment to the Pacific Fishery Management Council's Pacific Coast Groundfish Fishery Management Plan to allow bottom trawl and midwater trawl vessels targeting non-whiting species the option to use electronic monitoring (video cameras and associated sensors) in place of observers to meet requirements for 100-percent observer coverage. By allowing vessels the option to use electronic monitoring to meet monitoring requirements, this action is intended to increase operational flexibility and reduce monitoring costs for the fleet.

Timetable:

Action | Date | FR Cite
NPRM | 11/00/20

Regulatory Flexibility Analysis Required: Yes.

Agency Contact: Barry Thom, Regional Administrator, West Coast Region, Department of Commerce, National Oceanic and Atmospheric Administration, 1201 NE Lloyd Boulevard, Suite 1100, Portland, OR 97232, Phone: 503 231-6266, Email: barry.thom@noaa.gov.

RIN: 0648-BH70

150. Atlantic Highly Migratory Species; Research and Data Collection in Support of Spatial Fisheries Management

E.O. 13771 Designation: Deregulatory.

Legal Authority: 16 U.S.C. 1801 et seq.

Abstract: This rulemaking would address conducting research in areas currently closed to fishing for Atlantic highly migratory species (HMS)—during various times or by certain gear— to collect fishery-dependent data. A number of time/area closures or gear-restricted areas have been implemented over the years through various rulemakings, limiting fishing for Atlantic highly migratory species in those areas for a variety of reasons including reducing bycatch. These time/area closures have been implemented in consultation with the HMS Advisory Panel to protect species consistent with the Magnuson-Stevens Fisheries Conservation and Management Act (e.g., to reduce bycatch in the pelagic longline fishery off the east coast of Florida), the Endangered Species Act (e.g., to protect sea turtles in the North Atlantic), and the Atlantic Tunas Convention Act (e.g., to protect spawning bluefin tuna in the Gulf of Mexico). Fishery-dependent data supports effective fisheries management, and areas that restrict fishing effort often have a commensurate decrease in fishery-dependent data collection. Programs to facilitate research and data collection, such as those that would be covered by this rulemaking, could assess the efficacy of closed areas, improve sustainable management of highly migratory species, and may provide benefits to commercial and recreational fishermen.

Timetable:

Action | Date | FR Cite
NPRM | 09/00/21

Regulatory Flexibility Analysis Required: Yes.

Agency Contact: Kelly Denit, Director, Office of Sustainable Fisheries, Department of Commerce, National Oceanic and Atmospheric Administration, 1315 East-West Highway, Room 13362, Silver Spring, MD 20910, Phone: 301 427-8500, Email: kelly.denit@noaa.gov.

RIN: 0648-BI10

151. Establish National Insurance Requirements for Observer Providers

E.O. 13771 Designation: Other.

Legal Authority: 16 U.S.C. 1855(d)

Abstract: NMFS is proposing to establish uniform, nationally applicable minimum insurance requirements for companies that provide observer or at-sea monitor services for federally managed fisheries subject to monitoring requirements. This action would supersede outdated or inappropriate regulatory insurance requirements thereby easing the regulatory and cost burden for observer/at-sea monitor providers. Additionally, this action would mitigate potential liability risks associated with observer and at-sea monitor deployments for vessel owners and shore side processors that are subject to monitoring requirements.

Timetable:

Action | Date | FR Cite
NPRM | 11/00/20

Regulatory Flexibility Analysis Required: Yes.

Agency Contact: Evan Howell, Director, Office of Science and Technology, National Marine Fisheries Service, Department of Commerce, National Oceanic and Atmospheric Administration, 1315 East-West Highway, Silver Spring, MD 20910, Phone: 301 427-8100, Email: evan.howell@noaa.gov.

RIN: 0648-BJ33

152. Salmon Bycatch Minimization in the Pacific Coast Groundfish Fishery

E.O. 13771 Designation: Not subject to, not significant.

Legal Authority: 16 U.S.C. 1801 et seq.

Abstract: The proposed action would implement salmon bycatch minimization measures in the Pacific Coast groundfish fishery to comply with the terms and conditions of a December 2017 biological opinion on Endangered Species Act-listed salmon interactions in the groundfish fishery. The proposed action would establish additional management tools (e.g. area-based closures and gear restrictions) the Council and NMFS could use as needed to keep fishery sectors within Chinook and coho salmon bycatch guidelines as established in a prior rulemaking. The proposed action would establish the rules or circumstances under which the fishery sectors would be allowed to access an established salmon bycatch Reserve. Under the proposed action, NMFS is required to take an action before fishery participants can access the Reserve; such action may include implementation of a measure such as an area-based closure or gear restriction, or approval of a plan outlining how a whiting cooperative will minimize its salmon bycatch. Finally, the proposed action would change the bycatch levels at which the trawl fishery would be closed in order to preserve 500 Chinook salmon as bycatch so that the recreational and fixed gear fisheries could continue operating in years of high trawl fishery bycatch.

Timetable:

Action | Date | FR Cite
NPRM | 10/20/20 | 85 FR 66519
NPRM Comment Period End | 11/19/20
Final Action | 01/00/21

Regulatory Flexibility Analysis Required: Yes.

Agency Contact: Barry Thom, Regional Administrator, West Coast Region, Department of Commerce, National Oceanic and Atmospheric Administration, 1201 NE Lloyd Boulevard, Suite 1100, Portland, OR 97232, Phone: 503 231-6266, Email: barry.thom@noaa.gov.

RIN: 0648-BJ50

153. • 2021-22 Harvest Specifications and Management Measures for Pacific Coast Groundfish and Fishery Management Plan

E.O. 13771 Designation: Not subject to, not significant.

Legal Authority: 16 U.S.C. 1801 et seq.

Abstract: Every other year, the Pacific Fishery Management Council (Council) makes recommendations to set biennial allowable harvest levels for Pacific Coast groundfish, and recommends management measures for commercial, recreational, and tribal fisheries that are designed to achieve those harvest levels consistent with the Pacific Coast Groundfish Fishery Management Plan. For the 2021-22 biennium, the Council has recommended: harvest specifications, including overfishing limits, acceptable biological catches, and annual catch limits; and management measures to achieve those specifications. The specifications and management measures that would be forwarded by this action would be in effect from January 1, 2021, through December 31, 2022.

Timetable:

Action | Date | FR Cite
Notice of Availability | 09/02/20 | 85 FR 54529
NPRM | 11/00/20

Regulatory Flexibility Analysis Required: Yes.

Agency Contact: Barry Thom, Regional Administrator, West Coast Region, Department of Commerce, National Oceanic and Atmospheric Administration, 1201 NE Lloyd Boulevard, Suite 1100, Portland, OR 97232, Phone: 503 231-6266, Email: barry.thom@noaa.gov.

RIN: 0648-BJ74

154. • International Fisheries; Pacific Tuna Fisheries; Fishing Restrictions for Tropical Tuna in the Eastern Pacific Ocean for 2021

E.O. 13771 Designation: Not subject to, not significant.

Legal Authority: 16 U.S.C. 951 et seq.

Abstract: In the fall 2020, the Inter-American Tropical Tuna Commission (IATTC) is expected to adopt a binding resolution regarding conservation measures for tropical tuna in the Eastern Pacific Ocean (EPO) during 2021. As required under the Tuna Conventions Act, 16 U.S.C. 951 et seq., this rulemaking action would implement that resolution domestically. Provisions to be implemented include those expected for tropical tuna (bigeye, yellowfin, and skipjack) for 2021, and potentially beyond if the IATTC resolution applies beyond 2021. Additionally, should the IATTC resolution do so, as is expected, this rulemaking action would continue to apply provisions of currently applicable regulations for purse seine vessels of class sizes 4-6 (carrying capacity greater than 182 metric tons (mt)) fishing for tropical tuna in the EPO. This includes a 72-day closure, a time/area closure in the EPO for 31 days, and a requirement that all tropical tuna be retained on board and landed, except fish considered unfit for human consumption for reasons other than size. The rule is expected to continue to allow a single exception on the final set of a trip, when there may be insufficient well space remaining to accommodate all the tuna caught in that set. The rule is also expected to continue to limit catch of bigeye tuna by longline vessels greater than 24 meters in overall length to 750 metric tons per year.

Timetable:

Action | Date | FR Cite
NPRM | 12/00/20

Regulatory Flexibility Analysis Required: Yes.

Agency Contact: Barry Thom, Regional Administrator, West Coast Region, Department of Commerce, National Oceanic and Atmospheric Administration, 1201 NE Lloyd Boulevard, Suite 1100, Portland, OR 97232, Phone: 503 231-6266, Email: barry.thom@noaa.gov.

RIN: 0648-BK08

155. • Framework Adjustment 8 to the Atlantic Herring Fishery Management Plan

E.O. 13771 Designation: Not subject to, not significant.

Legal Authority: 16 U.S.C. 1801 et seq.

Abstract: In response to action by the New England Fishery Management Council based on the most recent stock assessment, this rulemaking action would set 2021-2023 fishing year specifications and adjust current herring measures. Changes in herring specifications may impact the Atlantic mackerel fishery because the fisheries often operate concurrently. Accordingly, this action would adjust current measures by providing more flexibility to participants in the Atlantic herring fishery in order to facilitate increased participation in the Atlantic mackerel fishery. The objectives of this action are to meet the overall goal of the Atlantic Herring Fishery Management Plan of managing the Atlantic herring fishery at long-term sustainable levels consistent with the National Standards of the Magnuson-Stevens Fishery Conservation and Management Act.

Timetable:

Action | Date | FR Cite
NPRM | 11/00/20

Regulatory Flexibility Analysis Required: Yes.

Agency Contact: Michael Pentony, Regional Administrator, Greater Atlantic Region, Department of Commerce, National Oceanic and Atmospheric Administration, 55 Great Republic Drive, Gloucester, MA 01930, Phone: 978 281-9283, Fax: 978 281-9207, Email: michael.pentony@noaa.gov.

RIN: 0648-BK11

156. Designation of Critical Habitat for the Arctic Ringed Seal

E.O. 13771 Designation: Regulatory.

Legal Authority: 16 U.S.C. 1531 et seq.

Abstract: The National Marine Fisheries Service published a final rule to list the Arctic ringed seal as a threatened species under the Endangered Species Act (ESA) in December 2012. The ESA requires designation of critical habitat at the time a species is listed as threatened or endangered, or within one year of listing if critical habitat is not then determinable. This rulemaking would designate critical habitat for the Arctic ringed seal. The critical habitat designation would be in the northern Bering, Chukchi, and Beaufort seas within the current range of the species.

Timetable:

Action | Date | FR Cite
NPRM | 12/03/14 | 79 FR 71714
Proposed Rule | 12/09/14 | 79 FR 73010
Notice of Public Hearings | 01/13/15 | 80 FR 1618
Comment Period Extended | 02/02/15 | 80 FR 5498
Proposed Rule 2 | 11/00/20

Regulatory Flexibility Analysis Required: Yes.

Agency Contact: Donna Wieting, Director, Office of Protected Resources, Department of Commerce, National Oceanic and Atmospheric Administration, National Marine Fisheries Service, 1315 East-West Highway, Silver Spring, MD 20910, Phone: 301 427-8400.

RIN: 0648-BC56

157. Amendment and Updates to the Pelagic Longline Take Reduction Plan

E.O. 13771 Designation: Not subject to, not significant.

Legal Authority: 16 U.S.C. 1361 et seq.

Abstract: Serious injury and mortality of the Western North Atlantic short-finned pilot whale stock incidental to the Category I Atlantic pelagic longline fishery continues at levels exceeding their Potential Biological Removal. This proposed action will examine a number of management measures to amend the Pelagic Longline Take Reduction Plan to reduce the incidental mortality and serious injury of short-finned pilot whales taken in the Atlantic Pelagic Longline fishery to below Potential Biological Removal. Potential management measures may include changes to the current limitations on mainline length, new requirements to use weak hooks (hooks with reduced breaking strength), and non-regulatory measures related to determining the best procedures for safe handling and release of marine mammals. The need for the proposed action is to ensure the Pelagic Longline Take Reduction Plan meets its Marine Mammal Protection Act mandated short- and long-term goals.

Timetable:

Action | Date | FR Cite
NPRM | 11/00/20

Regulatory Flexibility Analysis Required: Yes.

Agency Contact: Donna Wieting, Director, Office of Protected Resources, Department of Commerce, National Oceanic and Atmospheric Administration, National Marine Fisheries Service, 1315 East-West Highway, Silver Spring, MD 20910, Phone: 301 427-8400.

RIN: 0648-BF90

158. Designation of Critical Habitat for the Threatened Caribbean Corals

E.O. 13771 Designation: Regulatory.

Legal Authority: 16 U.S.C. 1531 et seq.

Abstract: NMFS listed 5 Caribbean corals as threatened under the Endangered Species Act on October 10, 2014. Critical habitat shall be designated to the maximum extent prudent and determinable at the time a species is proposed for listing (50 CFR 424.12). We concluded that critical habitat was not determinable for the 5 corals at the time of listing. However, we anticipated that critical habitat would be determinable in the future given on-going research. We, therefore, announced in the final listing rules that we would propose critical habitat in separate rulemakings. This rule proposes to designate critical habitat for the 5 Caribbean coral species listed in 2014. A separate proposed critical habitat rule is being prepared for the 15 Indo-Pacific corals listed as threatened in 2014. The proposed designation for the Caribbean corals may include marine waters in Florida, Puerto Rico, US Virgin Islands, Navassa Island, and Flower Garden Banks containing essential features that support all stages of life history of the corals. The proposed rule is not likely to have an annual effect on the economy of $100 million or more or adversely affect the economy. NMFS has contacted the Departments of the Navy, Air Force, and Army as well as the U.S. Coast Guard requesting information related to potential national security impacts that may result from the critical habitat designation. Based on information provided, we concluded that there will be an impact on national security in only 1 area offshore Dania Beach, FL, and will propose to exclude it from the designations.

Timetable:

Action | Date | FR Cite
NPRM | 11/27/20 | 85 FR 76302
NPRM Comment Period End | 01/26/21
Final Rule | 04/00/21

Regulatory Flexibility Analysis Required: Yes.

Agency Contact: Donna Wieting, Director, Office of Protected Resources, Department of Commerce, National Oceanic and Atmospheric Administration, National Marine Fisheries Service, 1315 East-West Highway, Silver Spring, MD 20910, Phone: 301 427-8400.

RIN: 0648-BG26

159. Atlantic Large Whale Take Reduction Plan Modifications To Reduce Serious Injury and Mortality of Large Whales in Commercial Trap/Pot Fisheries Along the U.S. East Coast

Regulatory Plan: This entry is Seq. No. 7 in part II of this issue of the Federal Register.

RIN: 0648-BJ09

160. Designation of Critical Habitat for Threatened Indo-Pacific Reef-Building Corals

E.O. 13771 Designation: Regulatory.

Legal Authority: 16 U.S.C. 1531 et seq.

Abstract: On September 10, 2014, NMFS listed 20 species of reef-building corals as threatened under the Endangered Species Act, 15 in the Indo-Pacific and five in the Caribbean. Of the 15 Indo-Pacific species, seven occur in U.S. waters of the Pacific Islands Region, including in American Samoa, Guam, the Commonwealth of the Mariana Islands, and the Pacific Remote Island Areas. This proposed rule would designate critical habitat for the seven species in U.S. waters (Acropora globiceps, Acropora jacquelineae, Acropora retusa, Acropora speciosa, Euphyllia paradivisa, Isopora crateriformis, and Seriatopora aculeata). A separate proposed rule will designate critical habitat for the listed Caribbean coral species. The proposed designation may cover coral reef habitat around 13 island or atoll units in the Pacific Islands Region, including three in American Samoa, one in Guam, seven in the Commonwealth of the Mariana Islands, and two in Pacific Remote Island Areas, containing essential features that support reproduction, growth, and survival of the listed coral species. NMFS has contacted the Departments of the Navy, Air Force, and Army as well as the U.S. Coast Guard requesting information related to potential national security impacts that may result from the critical habitat designation. Based on information provided, we will determine whether to propose to exclude any areas based on national security impacts.

Timetable:

Action | Date | FR Cite
NPRM | 11/27/20 | 85 FR 76262
NPRM Comment Period End | 01/26/21
Final Rule | 04/00/21

Regulatory Flexibility Analysis Required: Yes.

Agency Contact: Donna Wieting, Director, Office of Protected Resources, Department of Commerce, National Oceanic and Atmospheric Administration, National Marine Fisheries Service, 1315 East-West Highway, Silver Spring, MD 20910, Phone: 301 427-8400.

RIN: 0648-BJ52

161. • Establishment of Time-Area Closures for Hawaiian Spinner Dolphins Under the Marine Mammal Protection Act

E.O. 13771 Designation: Not subject to, not significant.

Legal Authority: 16 U.S.C. 1382 et seq.

Abstract: This rulemaking action under the Marine Mammal Protection Act (MMPA) proposes to establish mandatory time-area closures of Hawaiian spinner dolphins' essential daytime habitats at five selected sites in the Main Hawaiian Islands (MHI). In considering public comments in response to a separate proposed rule related to spinner dolphin interactions (81 FR 57854), NMFS intends these regulatory measures to prevent take of Hawaiian spinner dolphins from occurring in inshore marine areas at essential daytime habitats, and where high levels of disturbance from human activities are most prevalent.

Timetable:

Action | Date | FR Cite
NPRM | 11/00/20

Regulatory Flexibility Analysis Required: Yes.

Agency Contact: Donna Wieting, Director, Office of Protected Resources, Department of Commerce, National Oceanic and Atmospheric Administration, National Marine Fisheries Service, 1315 East-West Highway, Silver Spring, MD 20910, Phone: 301 427-8400.

RIN: 0648-BK04

DEPARTMENT OF COMMERCE (DOC)

National Oceanic and Atmospheric Administration (NOAA)

Final Rule Stage

National Marine Fisheries Service

162. International Fisheries; Western and Central Pacific Fisheries for Highly Migratory Species; Requirements To Safeguard Fishery Observers

E.O. 13771 Designation: Not subject to, not significant.

Legal Authority: 16 U.S.C. 6901 et seq.

Abstract: This rule would establish requirements to enhance the safety of fishery observers on highly migratory species fishing vessels. This rule would be issued under the authority of the Western and Central Pacific Fisheries Convention Implementation Act, and pursuant to decisions made by the Commission for the Conservation and Management of Highly Migratory Fish Stocks in the Western and Central Pacific Ocean. This action is necessary for the United States to satisfy its obligations under the Convention on the Conservation and Management of Highly Migratory Fish Stocks in the Western and Central Pacific Ocean, to which it is a Contracting Party.

Timetable:

Action | Date | FR Cite
NPRM | 10/20/20 | 85 FR 66513
NPRM Comment Period End | 11/19/20
Final Action | 01/00/21

Regulatory Flexibility Analysis Required: Yes.

Agency Contact: Michael Tosatto, Regional Administrator, Pacific Islands Region, Department of Commerce, National Oceanic and Atmospheric Administration, 1845 Wasp Boulevard, Building 176, Honolulu, HI 96818, Phone: 808 725-5000, Email: michael.tosatto@noaa.gov.

RIN: 0648-BG66

163. Area of Overlap Between the Convention Areas of the Inter-American Tropical Tuna Commission and the Western and Central Pacific Fisheries Commission

E.O. 13771 Designation: Deregulatory.

Legal Authority: 16 U.S.C. 6901 et seq.; 16 U.S.C. 951 et seq.

Abstract: Under authority of the Western and Central Pacific Fisheries Convention Implementation Act and the Tuna Conventions Act, an area of overlap (overlap area) exists between the respective areas of competence of the Commission for the Conservation and Management of Highly Migratory Fish Stocks in the Western and Central Pacific Ocean and the Inter-American Tropical Tuna Commission. NMFS proposes to change the application of the two Commissions' management decisions in the overlap area to specifically apply Inter-American Tropical Tuna Commission management measures in the overlap area rather than those of the Commission for the Conservation and Management of Highly Migratory Fish Stocks in the Western and Central Pacific Ocean that currently apply there.

Timetable:

Action | Date | FR Cite
ANPRM | 06/12/18 | 83 FR 27305
ANPRM Comment Period End | 07/12/18
NPRM | 11/07/19 | 84 FR 60040
NPRM Comment Period End | 11/22/19
Final Rule | 06/22/20 | 85 FR 37376
Final Rule Effective | 07/22/20
Final Action; Announcement of Effectiveness of Collection-of-Information Requirements | 11/00/20

Regulatory Flexibility Analysis Required: Yes.

Agency Contact: Michael Tosatto, Regional Administrator, Pacific Islands Region, Department of Commerce, National Oceanic and Atmospheric Administration, 1845 Wasp Boulevard, Building 176, Honolulu, HI 96818, Phone: 808 725-5000, Email: michael.tosatto@noaa.gov.

RIN: 0648-BH59

164. Omnibus Deep-Sea Coral Amendment

E.O. 13771 Designation: Regulatory.

Legal Authority: 16 U.S.C. 1801 et seq.

Abstract: This action would implement the New England Fishery Management Council's Omnibus Deep-Sea Coral Amendment. The Amendment would implement measures that reduce impacts of fishing gear on deep-sea corals in the Gulf of Maine and on the outer continental shelf. In doing so, this action would prohibit the use of mobile bottom-tending gear in two areas in the Gulf of Maine (Mount Desert Rock and Outer Schoodic Ridge), and it would prohibit the use of all gear (with an exception for red crab pots) along the outer continental shelf in waters deeper than a minimum of 600 meters.

Timetable:

Action | Date | FR Cite
Notice of Availability | 08/26/19 | 84 FR 44596
NPRM | 01/03/20 | 85 FR 285
NPRM Comment Period End | 02/18/20
Final Action | 12/00/20

Regulatory Flexibility Analysis Required: Yes.

Agency Contact: Michael Pentony, Regional Administrator, Greater Atlantic Region, Department of Commerce, National Oceanic and Atmospheric Administration, 55 Great Republic Drive, Gloucester, MA 01930, Phone: 978 281-9283, Fax: 978 281-9207, Email: michael.pentony@noaa.gov.

RIN: 0648-BH67

165. Generic Amendment to the Fishery Management Plans for the Reef Fish Resources of the Gulf of Mexico and Coastal Migratory Pelagic Resources in the Gulf of Mexico and Atlantic Region

E.O. 13771 Designation: Not subject to, not significant.

Legal Authority: 16 U.S.C. 1801 et seq.

Abstract: This action, recommended by the Gulf of Mexico Fishery Management Council, would modify data reporting for owners or operators of federally permitted for-hire vessels (charter vessels and headboats) in the Gulf of Mexico, requiring them to declare the type of trip (for-hire or other) prior to departing for any trip, and electronically submit trip-level reports prior to off-loading fish at the end of each fishing trip. The declaration would include the expected return time and landing location. Landing reports would include information about catch and effort during the trip. The action would also require that these reports be submitted via approved hardware that includes a global positioning system attached to the vessel that is capable, at a minimum, of archiving global positioning system locations. This requirement would not preclude the use of global positioning system devices that provide real-time location data, such as the currently approved vessel monitoring systems.

Timetable:

Action | Date | FR Cite
Notice of Availability | 06/21/18 | 83 FR 28797
NPRM | 10/26/18 | 83 FR 54069
Correction | 11/08/18 | 83 FR 55850
Comment Period Extended | 11/20/18 | 83 FR 58522
NPRM Comment Period End | 11/26/18
Comment Period Extended End | 01/09/19
Final Rule | 07/21/20 | 85 FR 44005
Final Rule Effective | 01/05/21
Final Action; Announcement of Effectiveness for Delayed Provisions | 12/00/20

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BH72

166. Magnuson-Stevens Fisheries Conservation and Management Act; Traceability Information Program for Seafood

E.O. 13771 Designation: Other.

Legal Authority: 16 U.S.C. 1801 et seq.; Pub. L. 115-141

Abstract: On December 9, 2016, NMFS issued a final rule that established a risk-based traceability program to track seafood from harvest to entry into U.S. commerce. The final rule included, for designated priority fish species, import permitting and reporting requirements to provide for traceability of seafood products offered for entry into the U.S. supply chain, and to ensure that these products were lawfully acquired and are properly represented. Shrimp and abalone products were included in the final rule to implement the Seafood Import Monitoring Program, but compliance with Seafood Import Monitoring Program requirements for those species was stayed indefinitely due to the disparity between Federal reporting programs for domestic aquaculture of shrimp and abalone products relative to the requirements that would apply to imports under Seafood Import Monitoring Program. In section 539 of the Consolidated Appropriations Act, 2018, Congress mandated lifting the stay on inclusion of shrimp and abalone in Seafood Import Monitoring Program and authorized the Secretary of Commerce to require comparable reporting and recordkeeping requirements for domestic aquaculture of shrimp and abalone. This rulemaking would establish permitting, reporting and recordkeeping requirements for domestic producers of shrimp and abalone from the point of production to entry into commerce.

Timetable:

Action | Date | FR Cite
NPRM | 10/11/18 | 83 FR 51426
NPRM Comment Period End | 11/26/18 |
Final Action | 03/00/21 |

Regulatory Flexibility Analysis Required: Yes.

Agency Contact: Alexa Cole, Director, Office of International Affairs and Seafood Inspection, Department of Commerce, National Oceanic and Atmospheric Administration, 1315 East-West Highway, Silver Spring, MD 20910, Phone: 301 427-8286, Email: alexa.cole@noaa.gov.

RIN: 0648-BH87

167. Atlantic Highly Migratory Species; Regulatory Amendment for the Management of Atlantic Swordfish

E.O. 13771 Designation: Deregulatory.

Legal Authority: 16 U.S.C. 1801 et seq.

Abstract: Upon recommendation of the HMS Advisory Panel, this action would modify existing management measures for North Atlantic swordfish under the 2006 Consolidated FMP in U.S. Atlantic and Caribbean waters. This rulemaking would increase default retention limits for the Commercial Caribbean Small Boat (CCSB) and Swordfish General Commercial permits and adding inseason adjustment criteria for the CCSB permits. This proposed action is intended to provide additional opportunities to more fully harvest the U.S. North Atlantic swordfish quota, which has been significantly under harvested for many years.

Timetable:

Action | Date | FR Cite
NPRM | 04/27/20 | 85 FR 23315
NPRM Comment Period End | 06/26/20 |
Final Action | 12/00/20 |

Regulatory Flexibility Analysis Required: Yes.

Agency Contact: Kelly Denit, Director, Office of Sustainable Fisheries, Department of Commerce, National Oceanic and Atmospheric Administration, 1315 East-West Highway, Room 13362, Silver Spring, MD 20910, Phone: 301 427-8500, Email: kelly.denit@noaa.gov.

RIN: 0648-BI09

168. Amendment 8 to the Atlantic Herring Fishery Management Plan

E.O. 13771 Designation: Not subject to, not significant.

Legal Authority: 16 U.S.C. 1801 et seq.

Abstract: In response to a recommendation by the New England Fishery Management Council, this action proposes measures for a long-term acceptable biological catch (ABC) control rule to address the biological and ecological requirements of the Atlantic herring stock, including explicitly accounting for Atlantic herring's role in the ecosystem, and minimizing localized depletion and user group conflict when effort in the Atlantic herring fishery overlaps (spatially and temporally) with effort in fisheries targeting predators of Atlantic herring (e.g., tuna, groundfish) or ecotourism industries. Specifically, this action would implement a control rule generating an ABC intended to meet specific criteria identified by the New England Fishery Management Council, including low variability in yield, low probability of the stock becoming overfished, low probability of a fishery shutdown, and catch limits set at a relatively high proportion of maximum sustainable yield. This action would specify that ABC would be set for a 3-year period, but would allow ABC to vary year-to-year in response to projected changes in biomass.

Timetable:

Action | Date | FR Cite
Notice of Availability | 08/21/19 | 84 FR 43573
NPRM | 10/09/19 | 84 FR 54094
NPRM Comment Period End | 11/25/19 |
Final Action | 11/00/20 |

Regulatory Flexibility Analysis Required: Yes.

Agency Contact: Michael Pentony, Regional Administrator, Greater Atlantic Region, Department of Commerce, National Oceanic and Atmospheric Administration, 55 Great Republic Drive, Gloucester, MA 01930, Phone: 978 281-9283, Fax: 978 281-9207, Email: michael.pentony@noaa.gov.

RIN: 0648-BI80

169. Amendment 21 to the Summer Flounder, Scup, and Black Sea Bass Fishery Management Plan

E.O. 13771 Designation: Not subject to, not significant.

Legal Authority: 16 U.S.C. 1801 et seq.

Abstract: This rulemaking action proposes measures recommended by the Mid-Atlantic Fishery Management Council and Atlantic States Marine Fisheries Commission that would adjust the current state-by-state commercial quota allocations in the summer flounder fishery and update the goals and objective for summer flounder fishery management in the Summer Flounder, Scup, and Black Sea Bass Fishery Management Plan (FMP). The revised quota allocation would maintain the current state-by-state allocation percentages when distributing the annual coastwide quota up to 9.55 million pounds. In years when the coastwide quota is above 9.55 million pounds, additional quota beyond this trigger would be distributed in equal shares to all states except Maine, Delaware, and New Hampshire (i.e., states with very little directed fishing effort), which would split one percent of the additional quota. The current state-by-state quota allocations have not been adjusted since originally implemented in 1993. The intent of this amendment is to modify the allocations to respond to changes in summer flounder distribution while also recognizing the states' historical reliance on summer flounder. The Council and Board intend to review the adjusted quota allocations again in no more than 10 years.

Timetable:

Action | Date | FR Cite
Notice of Availability | 07/29/20 | 85 FR 45571
NPRM | 08/12/20 | 85 FR 48660
NPRM Comment Period End | 09/11/20 |
Final Action | 11/00/20 |

Regulatory Flexibility Analysis Required: Yes.

Agency Contact: Michael Pentony, Regional Administrator, Greater Atlantic Region, Department of Commerce, National Oceanic and Atmospheric Administration, 55 Great Republic Drive, Gloucester, MA 01930, Phone: 978 281-9283, Fax: 978 281-9207, Email: michael.pentony@noaa.gov.

RIN: 0648-BJ18

170. Modification of Multi-Day Trip Possession Limits for Federally-Permitted Charter/Headboat Vessels in the Fishery Management Plans (FMP) in the Gulf of Mexico

E.O. 13771 Designation: Deregulatory.

Legal Authority: 16 U.S.C. 1801 et seq.

Abstract: This rule would promote efficiency in the utilization of the reef fish and CMP resources and a potential decrease in regulatory discards by providing the owners and operators of federally permitted for-hire vessels greater flexibility in determining when to allow passengers to retain the possession limit on multi-day trips. The rule would modify the on-board possession limit for federal for-hire trips in the Gulf of Mexico, which currently allows anglers to retain two daily bag limits on a trip more than 24 hours, after the first 24 hours of that trip. The rule would increase the required trip duration to more than 30 hours, but would allow anglers to retain the second daily bag limit at any time after the federal for-hire vessel leaves the dock. All other requirements to retain the possession limit would be unchanged. In addition, this rule would modify the language in 622.21(a)(3)(iii) and 622.22(a)(3)(iii). The change would remove the wording `sequentially coded' from the sentence `NMFS will provide each Individual Fishing Quota (IFQ) dealer the necessary paper forms, sequentially coded, and instructions for submission of the forms to the RA'.

Timetable:

Action | Date | FR Cite
NPRM | 07/28/20 | 85 FR 45363
NPRM Comment Period End | 08/27/20 |
Final Action | 11/00/20 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BJ60

171. Reducing Disturbances to Hawaiian Spinner Dolphins From Human Interactions

E.O. 13771 Designation: Not subject to, not significant.

Legal Authority: 16 U.S.C. 1361 et seq.

Abstract: This action would implement regulatory measures under the Marine Mammal Protection Act to protect Hawaiian spinner dolphins that are resting in protected bays from take due to close approach interactions with humans.

Timetable:

Action | Date | FR Cite
ANPRM | 12/12/05 | 70 FR 73426
ANPRM Comment Period End | 01/11/06 |
NPRM | 08/24/16 | 81 FR 57854
NPRM Comment Period End | 10/23/16 |
NPRM Comment Period Reopened | 11/16/16 | 81 FR 80629
NPRM Comment Period Reopened End | 12/01/16 |
Final Action | 11/00/20 |

Regulatory Flexibility Analysis Required: Yes.

Agency Contact: Donna Wieting, Director, Office of Protected Resources, Department of Commerce, National Oceanic and Atmospheric Administration, National Marine Fisheries Service, 1315 East-West Highway, Silver Spring, MD 20910, Phone: 301 427-8400.

RIN: 0648-AU02

172. Taking and Importing Marine Mammals: Taking Marine Mammals Incidental to Geophysical Surveys Related to Oil and Gas Activities in the Gulf of Mexico

Regulatory Plan: This entry is Seq. No. 9 in part II of this issue of the Federal Register.

RIN: 0648-BB38

173. Revision to Critical Habitat Designation for Endangered Southern Resident Killer Whales

E.O. 13771 Designation: Regulatory.

Legal Authority: 16 U.S.C. 1531 et seq.

Abstract: The proposed action would revise the designation of critical habitat for the endangered Southern Resident killer whale distinct population segment, pursuant to section 4 of the Endangered Species Act. Critical habitat for this population is currently designated within inland waters of Washington. In response to a 2014 petition, NMFS is proposing to expand the designation to include areas occupied by Southern Resident killer whales in waters along the U.S. West Coast. Impacts from the designation would stem mainly from Federal agencies' requirement to consult with NMFS, under section 7 of the Endangered Species Act, to ensure that any action they carry out, permit (authorize), or fund will not result in the destruction or adverse modification of critical habitat of a listed species. Federal agencies are already required to consult on effects to the currently designated critical habitat in inland waters of Washington, but consultation would be newly required for actions affecting the expanded critical habitat areas. Federal agencies are also already required to consult within the Southern Resident killer whales' range (including along the U.S. West Coast) to ensure that any action they carry out, permit, or fund will not jeopardize the continued existence of the species; this requirement would not change with a revision to the critical habitat designation.

Timetable:

Action | Date | FR Cite
NPRM | 09/19/19 | 84 FR 49214
NPRM Comment Period End | 12/18/19 |
Final Rule | 02/00/21 |

Regulatory Flexibility Analysis Required: Yes.

Agency Contact: Donna Wieting, Director, Office of Protected Resources, Department of Commerce, National Oceanic and Atmospheric Administration, National Marine Fisheries Service, 1315 East-West Highway, Silver Spring, MD 20910, Phone: 301 427-8400.

RIN: 0648-BH95

174. Designation of Critical Habitat for the Mexico, Central American, and Western Pacific Distinct Population Segments of Humpback Whales Under the Endangered Species Act

E.O. 13771 Designation: Regulatory.

Legal Authority: 16 U.S.C. 1531 et seq.

Abstract: This action will propose the designation of critical habitat for three distinct population segments of humpback whales (Megaptera novaeangliae) pursuant to section 4 of the Endangered Species Act. The three distinct population segments of humpback whales concerned—the Mexico, Central American, and Western Pacific distinct population segments—were listed under the Endangered Species Act on September 8, 2016, thereby triggering the requirement under section 4 of the Endangered Species Act to designate critical habitat to the maximum extent prudent and determinable. Proposed critical habitat for these three distinct population segments of humpback whales will include marine habitats within the Pacific Ocean and Bering Sea and will likely overlap with several existing designations, including critical habitat for leatherback sea turtles, North Pacific right whales, Steller sea lions, southern resident killer whales, and the southern distinct population segment of green sturgeon. Impacts from the designations for humpback whales would stem from the statutory requirement for Federal agencies to consult with NMFS, under section 7 of the Endangered Species Act, to ensure that any action they carry out, authorize, or fund will not result in the destruction or adverse modification of humpback whale critical habitat. Within many of the areas we are evaluating for potential proposal as critical habitat for the humpback whales distinct population segments, Federal agencies are already required to consult on effects to currently designated critical habitat for other listed species. Federal agencies are also already required to consult with NMFS under section 7 of the Endangered Species Act to ensure that any action they authorize, fund or carry out will not jeopardize the continued existence of the listed distinct population segments of humpback whales.

Timetable:

Action | Date | FR Cite
NPRM | 10/09/19 | 84 FR 54354
NPRM Comment Period End | 12/09/19 |
NPRM Comment Period Extended | 11/27/19 | 84 FR 65346
NPRM Comment Period Extended End | 01/31/20 |
Final Action | 01/00/21 |

Regulatory Flexibility Analysis Required: Yes.

Agency Contact: Donna Wieting, Director, Office of Protected Resources, Department of Commerce, National Oceanic and Atmospheric Administration, National Marine Fisheries Service, 1315 East-West Highway, Silver Spring, MD 20910, Phone: 301 427-8400.

RIN: 0648-BI06

NOS/ONMS

175. Wisconsin-Lake Michigan National Marine Sanctuary Designation

E.O. 13771 Designation: Regulatory.

Legal Authority: 16 U.S.C. 1431 et seq.

Abstract: On December 2, 2014, pursuant to section 304 of the National Marine Sanctuaries Act and the Sanctuary Nomination Process (79 FR 33851), a coalition of community groups submitted a nomination asking NOAA to designate an area of Wisconsin's Lake Michigan waters as a national marine sanctuary. The area is a region that includes 875 square miles of Lake Michigan waters and bottomlands adjacent to Manitowoc, Sheboygan, and Ozaukee counties and the cities of Port Washington, Sheboygan, Manitowoc, and Two Rivers. It includes 80 miles of shoreline and extends 9 to 14 miles from the shoreline. The area contains an extraordinary collection of submerged maritime heritage resources (shipwrecks) as demonstrated by the listing of 15 shipwrecks on the National Register of Historic Places. The area includes 39 known shipwrecks, 123 reported vessel losses, numerous other historic maritime-related features, and is adjacent to communities that have embraced their centuries-long relationship with Lake Michigan. NOAA completed its review of the nomination in accordance with the Sanctuary Nomination Process and on February 5, 2015, added the area to the inventory of nominations that are eligible for designation. On October 7, 2015, NOAA issued a notice of intent to begin the designation process and asked for public comment on making this area a national marine sanctuary. Designation under the National Marine Sanctuaries Act would allow NOAA to supplement and complement work by the State of Wisconsin and other Federal agencies to protect this collection of nationally significant shipwrecks.

Timetable:

Action | Date | FR Cite
NPRM | 01/09/17 | 82 FR 2269
NPRM Comment Period End | 03/31/17 |
Final Action | 01/00/21 |

Regulatory Flexibility Analysis Required: Yes.

Agency Contact: Russ Green, Department of Commerce, National Oceanic and Atmospheric Administration, Washington, DC 20230, Phone: 989 766-3359, Email: russ.green@noaa.gov.

Jessica Kondel, Policy and Planning Division Division Chief, Department of Commerce, National Oceanic and Atmospheric Administration, 1305 East-West Highway, Bldg. SSMC4, Silver Spring, MD 20910, Phone: 240 533-0647.

RIN: 0648-BG01

DEPARTMENT OF COMMERCE (DOC)

National Oceanic and Atmospheric Administration (NOAA)

Long-Term Actions

National Marine Fisheries Service

176. Implementation of a Program for Transshipments by Large Scale Fishing Vessels in the Eastern Pacific Ocean

E.O. 13771 Designation: Not subject to, not significant.

Legal Authority: 16 U.S.C. 951 et seq.; 16 U.S.C. 971 et seq.

Abstract: This rule would implement the Inter-American Tropical Tuna Commission program to monitor transshipments by large-scale tuna fishing vessels, and would govern transshipments by U.S. large-scale tuna fishing vessels and carrier, or receiving, vessels. The rule would establish: Criteria for transshipping in port; criteria for transshipping at sea by longline vessels to an authorized carrier vessel with an Inter-American Tropical Tuna Commission observer onboard and an operational vessel monitoring system; and require the Pacific Transshipment Declaration Form, which must be used to report transshipments in the Inter-American Tropical Tuna Commission Convention Area. This rule is necessary for the United States to satisfy its international obligations under the 1949 Convention for the Establishment of an Inter-American Tropical Tuna, to which it is a Contracting Party.

Timetable:

Action | Date | FR Cite
To Be Determined | To Be Determined

Regulatory Flexibility Analysis Required: Yes.

Agency Contact: Barry Thom, Phone: 503 231-6266, Email: barry.thom@noaa.gov.

RIN: 0648-BD59

177. International Fisheries; Western and Central Pacific Fisheries for Highly Migratory Species; Treatment of U.S. Purse Seine Fishing With Respect to U.S. Territories

E.O. 13771 Designation: Deregulatory.

Legal Authority: 16 U.S.C. 6901 et seq.

Abstract: This action would establish rules and/or procedures to address the treatment of U.S.-flagged purse seine vessels and their fishing activities in regulations issued by the National Marine Fisheries Service that implement decisions of the Commission for the Conservation and Management of Highly Migratory Fish Stocks in the Western and Central Pacific Ocean (Commission), of which the United States is a member. Under the Western and Central Pacific Fisheries Convention Implementation Act, the National Marine Fisheries Service exercises broad discretion when determining how it implements Commission decisions, such as purse seine fishing restrictions. The National Marine Fisheries Service intends to examine the potential impacts of the domestic implementation of Commission decisions, such as purse seine fishing restrictions, on the economies of the U.S. territories that participate in the Commission, and examine the connectivity between the activities of U.S.-flagged purse seine fishing vessels and the economies of the territories. Based on that and other information, the National Marine Fisheries Service might propose regulations that mitigate adverse economic impacts of purse seine fishing restrictions on the U.S. territories and/or that, in the context of the Convention on the Conservation and Management of Highly Migratory Fish Stocks in the Western and Central Pacific Ocean (Convention), recognize that one or more of the U.S. territories have their own purse seine fisheries that are distinct from the purse seine fishery of the United States and that are consequently subject to special provisions of the Convention and of Commission decisions.

Timetable:

Action | Date | FR Cite
ANPRM | 10/23/15 | 80 FR 64382
ANPRM Comment Period End | 11/23/15 |
To Be Determined | To Be Determined

Regulatory Flexibility Analysis Required: Yes.

Agency Contact: Michael Tosatto, Phone: 808 725-5000, Email: michael.tosatto@noaa.gov.

RIN: 0648-BF41

178. Bering Sea and Aleutian Islands Pacific Cod Pot Catcher/Processor License Limitation Program Adjustment

E.O. 13771 Designation: Not subject to, not significant.

Legal Authority: 16 U.S.C. 1801 et seq.

Abstract: In response to a recommendation by the North Pacific Fishery Management Council (Council), this action announces the establishment of a control date for the Bering Sea and Aleutian Islands (BSAI) Pacific cod pot catcher/processor sector. Currently, pot catcher/processor vessels fishing for Pacific cod in the BSAI are required to have a License Limitation Program (LLP) that is endorsed for fishing Pacific cod by gear type, operational type, and area. The Council is evaluating participation and effort in the BSAI Pacific cod catcher/processor fishery in response to a potential need to control entry and participation in the Pacific cod pot catcher/processor sector. Specifically, the Council is considering options to address and potentially eliminate latent Bering Sea pot catcher/processor endorsed LLPs (which are LLP endorsements not recently utilized) in order to increase stability for Pacific cod-dependent pot catcher/processors, maintain consistently low rates of halibut and crab bycatch, and ensure that condensed fishing seasons do not result in safety-at-sea concerns. The Council may use the control date if it decides to recommend removing latent BSAI Pacific cod endorsements on pot catcher/processor LLPs to limit participation in the sector. Any fishing activity after the control date would not be assured to be considered should the Council recommend and NMFS implement a regulatory amendment to remove latent LLP endorsements. This announcement is intended, in part, to promote awareness of the potential eligibility criteria for future access to discourage speculative entry into the BSAI Pacific cod sector while the Council and NMFS consider whether and how access to the sector should be further controlled.

Timetable:

Action | Date | FR Cite
ANPRM | 12/10/19 | 84 FR 67421
ANPRM Comment Period End | 12/10/19 |
NPRM | 11/00/21 |

Regulatory Flexibility Analysis Required: Yes.

Agency Contact: James Balsiger, Phone: 907 586-7221, Fax: 907 586-7465, Email: jim.balsiger@noaa.gov.

RIN: 0648-BJ42

DEPARTMENT OF COMMERCE (DOC)

National Oceanic and Atmospheric Administration (NOAA)

Completed Actions

179. Licensing of Private Land Remote-Sensing Space Systems

E.O. 13771 Designation: Fully or Partially Exempt.

Legal Authority: 51 U.S.C. 60101 et seq.

Abstract: The National Oceanic and Atmospheric Administration (NOAA's) National Environmental Satellite, Data, and Information Service proposes to revise its final rule issued on April 26, 2006, addressing the licensing of private land remote sensing space systems. The purpose of this revision is to modify NOAA's requirements for the licensing, monitoring and compliance of operators of private land remote sensing space systems under title II of the Land Remote Sensing Policy Act of 1992. These modifications are intended to address changes in remote sensing technology and business practices since the issuance of the final rule. The revision is intended to facilitate the further development of the U.S. commercial remote sensing industry, while preserving essential U.S. national security interests, foreign policy, and international obligations.

Timetable:

Action | Date | FR Cite
ANPRM | 06/29/18 | 83 FR 30592
ANPRM Comment Period End | 08/28/18 |
NPRM | 05/14/19 | 84 FR 21282
NPRM Comment Period End | 07/15/19 |
Final Rule | 05/20/20 | 85 FR 30790
Comment Period End | 06/19/20 |
Final Rule Effective | 07/20/20 |

Regulatory Flexibility Analysis Required: Yes.

Agency Contact: Alan D. Robinson, Program Coordinator for Commercial Remote Sensing, Department of Commerce, National Oceanic and Atmospheric Administration, 1335 East-West Highway, Silver Spring, MD 20910, Phone: 301 713-3387, Fax: 301 713-2032, Email: alan.robinson@noaa.gov.

RIN: 0648-BA15

180. Commerce Trusted Trader Program

E.O. 13771 Designation: Deregulatory.

Legal Authority: 16 U.S.C. 1801 et seq.

Abstract: The National Marine Fisheries Service (NMFS) withdraws the Commerce Trusted Trader Program proposed rule, which published in the Federal Register on January 17, 2018. The proposed voluntary program was intended to offer qualified importers electing to participate in the program a reduction in reporting and recordkeeping requirements and streamlined entry into U.S. commerce for seafood imports subject to the Seafood Import Monitoring Program. Upon consideration of public comment, NMFS has determined that this program will not provide the anticipated benefits to industry.

Timetable:

Action | Date | FR Cite
NPRM | 01/17/18 | 83 FR 2412
NPRM Comment Period End | 03/19/18 |
Withdrawal | 09/18/20 | 85 FR 58321
Withdrawal Effective | 09/18/20 |

Regulatory Flexibility Analysis Required: Yes.

Agency Contact: Alexa Cole, Director, Office of International Affairs and Seafood Inspection, Department of Commerce, National Oceanic and Atmospheric Administration, 1315 East-West Highway, Silver Spring, MD 20910, Phone: 301 427-8286, Email: alexa.cole@noaa.gov.

RIN: 0648-BG51

181. Rule to Implement the For-Hire Reporting Amendments

E.O. 13771 Designation: Not subject to, not significant.

Legal Authority: 16 U.S.C. 1801 et seq.

Abstract: This rule implements Amendment 39 for the Snapper-Grouper Fishery of the South Atlantic Region, Amendment 9 for the Dolphin and Wahoo Fishery of the Atlantic, and Amendment 27 to the Coastal Migratory Pelagics Fishery of the Gulf of Mexico and Atlantic Regions (For-Hire Reporting Amendments). The For-Hire Reporting Amendments rule implements mandatory weekly electronic reporting for charter vessel operators with a Federal for-hire permit in the snapper-grouper, dolphin wahoo, or coastal migratory pelagics fisheries; reduces the time allowed for headboat operators to complete their electronic reports; and requires location reporting by charter vessels with the same level of detail currently required for headboat vessels.

Timetable:

Action | Date | FR Cite
Notice of Availability | 03/14/18 | 83 FR 11164
NPRM | 04/04/18 | 83 FR 14400
NPRM Comment Period End | 05/04/18 |
Final Rule | 02/24/20 | 85 FR 10331
Final Rule Effective | 09/01/20 |
Final Rule; Delay of Effective Date | 08/07/20 | 85 FR 47917
Final Rule; Delay of Effective Date Effective | 01/04/21 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BG75

182. New England Industry-Funded Monitoring Amendment

E.O. 13771 Designation: Not subject to, not significant.

Legal Authority: 16 U.S.C. 1801 et seq.

Abstract: This rule implements measures for industry funding and prioritizing available Federal funding to pay for additional monitoring, consistent with specific monitoring coverage targets recently set by the New England Fishery Management Council, for New England fishery management plans. Specifically, this action would modify all the New England fishery management plans to allow standardized development of future, plan-specific, industry-funded monitoring programs. This action would also prioritize industry-funded monitoring programs across New England fishery management plans when available Federal funding falls short of the total needed to fully fund all monitoring programs. Finally, this rule implements industry-funded monitoring requirements for the Atlantic Herring fishery management plan.

Timetable:

Action | Date | FR Cite
Notice of Availability | 09/19/18 | 83 FR 47326
NPRM | 11/07/18 | 83 FR 55665
NPRM Comment Period End | 12/24/18 |
Final Action | 02/07/20 | 85 FR 7414
Final Action Effective | 03/09/20 |

Regulatory Flexibility Analysis Required: Yes.

Agency Contact: Michael Pentony, Regional Administrator, Greater Atlantic Region, Department of Commerce, National Oceanic and Atmospheric Administration, 55 Great Republic Drive, Gloucester, MA 01930, Phone: 978 281-9283, Fax: 978 281-9207, Email: michael.pentony@noaa.gov.

RIN: 0648-BG91

183. Vessel Movement, Monitoring, and Declaration Management Enhancement for the Pacific Coast Groundfish Fishery; Pacific Coast Groundfish Fishery Management Plan

E.O. 13771 Designation: Deregulatory.

Legal Authority: 16 U.S.C. 1801 et seq.

Abstract: This rulemaking action implements the Pacific Fishery Management Council's action to implement various measures that provide more efficient and effective monitoring, improve enforcement of restricted areas, and reduce costs for the Pacific coast groundfish fleet. This action would: Increase the required frequency of signals transmitted from type-approved vessel monitoring system (VMS) units from once per hour to every 15 minutes to provide finer-scale vessel location data; allow vessels to use alternative VMS units; add a VMS declaration to indicate when a vessel is testing gear; allow vessels participating in the midwater trawl whiting fishery to change their declaration while at-sea to select a new whiting fishery; and allow vessels to move pot gear from one management area to another during a single trip while retaining fish from the primary management area.

Timetable:

Action | Date | FR Cite
NPRM | 10/10/19 | 84 FR 54579
NPRM Comment Period End | 11/12/19 |
Final Action | 06/11/20 | 85 FR 35594
Final Action Effective | 07/13/20 |

Regulatory Flexibility Analysis Required: Yes.

Agency Contact: Barry Thom, Regional Administrator, West Coast Region, Department of Commerce, National Oceanic and Atmospheric Administration, 1201 NE Lloyd Boulevard, Suite 1100, Portland, OR 97232, Phone: 503 231-6266, Email: barry.thom@noaa.gov.

RIN: 0648-BI45

184. Framework Adjustment 59 to the Northeast Multispecies Fishery Management Plan

E.O. 13771 Designation: Not subject to, not significant.

Legal Authority: 16 U.S.C. 1801 et seq.

Abstract: This rulemaking action proposes to implement management measures included in the New England Fishery Management Council's Framework Adjustment 59 to the Northeast Multispecies Fishery Management Plan (Framework 59) developed in response to new scientific information. The proposed action would set fishing years 2020-2022 specifications for 15 groundfish stocks, and fishing year 2020 total allocable catches (TAC) for the three U.S./Canada stocks: Eastern Georges Bank cod, Eastern Georges Bank haddock, and Georges Bank yellowtail flounder. This action would also revise the Georges Bank cod incidental TAC to remove the allocation to the Closed Area I Hook Gear Haddock Special Access Program, and as necessary in response to any new data coming from the Marine Recreational Information Program, address commercial/recreational allocation issues.

Timetable:

Action | Date | FR Cite
NPRM | 05/29/20 | 85 FR 32347
NPRM Comment Period End | 06/15/20 |
Final Action Effective | 07/28/20 |
Final Action | 07/30/20 | 85 FR 45794

Regulatory Flexibility Analysis Required: Yes.

Agency Contact: Michael Pentony, Regional Administrator, Greater Atlantic Region, Department of Commerce, National Oceanic and Atmospheric Administration, 55 Great Republic Drive, Gloucester, MA 01930, Phone: 978 281-9283, Fax: 978 281-9207, Email: michael.pentony@noaa.gov.

RIN: 0648-BJ12

185. Vessel Monitoring Systems; Amendment to Type-Approval Requirements

E.O. 13771 Designation: Deregulatory.

Legal Authority: 16 U.S.C. 1801 et seq.

Abstract: The U.S. Vessel Monitoring System (VMS) program type-approves enhanced mobile transceiver units (EMTUs) for use in the U.S. Currently, the only option for transferring VMS data from ship to NMFS is by satellite-linked communication services. All owners of vessels participating in the NOAA VMS program are required to carry a NMFS-approved EMTU or MTU to comply with the Vessel Monitoring System requirements. This rule would modify the type-approval requirements to allow for communication service by cellular EMTUs (EMTU-Cs), in addition to satellite-only models. The need for the rule is to set out procedures and requirements for initial type-approvals; compliance with, and revocations and appeals of type-approvals; and technical, service, and performance specifications. This would allow EMTU-Cs to be type-approved and used in certain federally managed fisheries with a VMS requirement. Generally, cellular communication services come at a significantly lower cost than satellite services. A lower cost could ease the financial burden on fishermen, while providing NMFS with additional capabilities to manage fishery resources, and to protect marine species and ecologically sensitive areas.

Timetable:

Action | Date | FR Cite
NPRM | 01/24/20 | 85 FR 4257
NPRM Comment Period End | 02/24/20 |
Final Action | 07/08/20 | 85 FR 40915
Final Action Effective | 08/07/20 |

Regulatory Flexibility Analysis Required: Yes.

Agency Contact: James Landon, Department of Commerce, National Oceanic and Atmospheric Administration, 1315 East-West Hwy, Bldg SSMC 3, Room 3151, Silver Spring, MD 20910, Phone: 301 427-8245, Email: james.landon@noaa.gov.

RIN: 0648-BJ15

186. Amendment 21 to the Atlantic Mackerel, Squid, and Butterfish Fishery Management Plan

E.O. 13771 Designation: Not subject to, not significant.

Legal Authority: 16 U.S.C. 1801 et seq.

Abstract: In response to action by the Mid-Atlantic Fishery Management Council to integrate chub mackerel as a stock managed under the Atlantic Mackerel, Squid, and Butterfish Fishery Management Plan, this rulemaking action replaces preliminary chub mackerel management measures implemented in August 2017 under the Unmanaged Forage Omnibus Amendment that expire December 31, 2020. The objective of this action is to sustainably manage chub mackerel consistent with the Magnuson-Stevens Fishery Conservation and Management Act. The action would: Identify chub mackerel management goals and objectives; designate chub mackerel essential fish habitat; create a chub mackerel management unit; specify chub mackerel status determination criteria; set chub mackerel acceptable biological catch and annual catch limits; establish a process to set chub mackerel catch limits and distribute them among commercial and recreational fisheries; create accountability measures to prevent overfishing; and establish chub mackerel permit and reporting requirements.

Timetable:

Action | Date | FR Cite
Notice of Availability | 02/14/20 | 85 FR 8534
Notice of Availability Comment Period End | 04/14/20 |
NPRM | 03/09/20 | 85 FR 13603
NPRM Comment Period End | 04/08/20 |
Final Rule | 08/04/20 | 85 FR 47103
Correction | 08/18/20 | 85 FR 50793
Final Rule Effective | 09/03/20 |
Correction Effective | 09/03/20 |

Regulatory Flexibility Analysis Required: Yes.

Agency Contact: Michael Pentony, Regional Administrator, Greater Atlantic Region, Department of Commerce, National Oceanic and Atmospheric Administration, 55 Great Republic Drive, Gloucester, MA 01930, Phone: 978 281-9283, Fax: 978 281-9207, Email: michael.pentony@noaa.gov.

RIN: 0648-BJ16

187. Regulatory Amendment To Adjust the North Pacific Observer Program Partial Coverage Fee

E.O. 13771 Designation: Not subject to, not significant.

Legal Authority: 16 U.S.C. 1801 et seq.

Abstract: In response to a recommendation by the North Pacific Fishery Management Council, this action would modify the fee percentage assessed on groundfish and halibut landings made by vessels operating in the Bering Sea and Aleutian Islands and Gulf of Alaska management areas. This action would increase the observer fee from 1.25 percent to 1.65 percent of the ex-vessel value of landings made by vessels that are not in the full coverage category. Fee revenues are used to fund deployment of observers and electronic monitoring (EM) in the partial coverage category of the North Pacific Observer Program. This action is necessary to provide additional funding to deploy observers and EM in the partial coverage category to better meet monitoring objectives for the North Pacific Observer Program. Section 313 of the Magnuson-Stevens Fishery Conservation and Management Act establishes that data collected by well-trained, independent observers and EM are a cornerstone of the sustainable management of Federal fisheries off Alaska.

Timetable:

Action | Date | FR Cite
NPRM | 03/09/20 | 85 FR 13618
NPRM Comment Period End | 04/08/20 |
Final Action | 07/10/20 | 85 FR 41424
Final Action Effective | 08/10/20 |

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BJ40

188. Amendment 121 to the Fishery Management Plan for Groundfish of the Bering Sea and Aleutian Islands Management Area and Amendment 110 to the Fishery Management Plan for Groundfish of the Gulf of Alaska

E.O. 13771 Designation: Deregulatory.

Legal Authority: 16 U.S.C. 1801 et seq.

Abstract: This action implements the North Pacific Fishery Management Council's Amendments to the Bering Sea/Aleutian Islands (Amendment 121) and Gulf of Alaska (Amendment 110) Groundfish Fishery Management Plans (FMPs). These Amendments would move sculpins into the Ecosystem Component of the FMPs, which is a category of non-target species that are not in need of conservation and management. Magnuson-Stevens Act National Standard guidelines include options to identify non-target species in FMPs (species caught incidentally during the pursuit of target stocks in a fishery) that do not require conservation and management as ecosystem component species. As an Ecosystem Component, this action proposes that catch specifications for sculpins (Overfishing Level, Acceptable Biological Catch, Total Allowable Catch) would no longer be required, but instead, regulations would prohibit directed fishing forsculpins, require recordkeeping and reporting to monitor and report catch of sculpins annually, and establish a sculpins maximum retainable amount when directed fishing for groundfish species at 20 percent to discourage retention while allowing flexibility to prosecute groundfish fisheries. This action would free up approximately 5,000 metric tons (mt) of total allowable catch (TAC) under the 2 million mt optimum yield limit for the Bering Sea/Aleutian Islands management area. This TAC could be allocated to any groundfish target species during the annual harvest specifications process, thereby allowing for some flexibility with allocations.

Timetable:

Action | Date | FR Cite
Notice of Availability | 03/23/20 | 85 FR 13610
NPRM | 04/23/20 | 85 FR 22703
NPRM Comment Period End | 05/23/20 |
Final Action | 07/10/20 | 85 FR 41427
Final Action Effective | 08/10/20 |

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BJ49

189. Atlantic Bluefish 2020-2021 Specifications and Recreational Management Measures

E.O. 13771 Designation: Not subject to, not significant.

Legal Authority: 16 U.S.C. 1801 et seq.

Abstract: The Mid-Atlantic Fishery Management Council has developed and recommended proposed 2020-21 bluefish fishery specifications. This action would revise bluefish fishery catch limits for fishing years 2020 and 2021, as well as recreational management measures to constrain catch to these new limits and prevent overfishing. The August 2019 operational assessment incorporated revised Marine Recreational Information Program estimates into its analyses and biological reference points. This assessment determined that the bluefish stock is overfished but not subject to overfishing. Using this new information, the Council recommends revising bluefish catch specifications to prevent overfishing from occurring. This action also proposed Council-recommended reductions in recreational bag limit or private anglers and for for-hire (charter/party). All other management measures, including recreational season and minimum fish size would remain unchanged. Given the stock status, the fishery will be operating under interim measures promulgated under section 305(c) of the Magnuson-Stevens Fishery Conservation and Management Act until this action is finalized.

Timetable:

Action | Date | FR Cite
NPRM | 05/11/20 | 85 FR 27703
NPRM Comment Period End | 05/26/20 |
Final Action | 06/29/20 | 85 FR 38794
Final Action Effective | 06/29/20 |

Regulatory Flexibility Analysis Required: Yes.

Agency Contact: Michael Pentony, Regional Administrator, Greater Atlantic Region, Department of Commerce, National Oceanic and Atmospheric Administration, 55 Great Republic Drive, Gloucester, MA 01930, Phone: 978 281-9283, Fax: 978 281-9207, Email: michael.pentony@noaa.gov.

RIN: 0648-BJ61

DEPARTMENT OF COMMERCE (DOC)

Patent and Trademark Office (PTO)

Final Rule Stage

190. Trademark Fee Adjustment

Regulatory Plan: This entry is Seq. No. 10 in part II of this issue of the Federal Register.

RIN: 0651-AD42

DEPARTMENT OF COMMERCE (DOC)

Patent and Trademark Office (PTO)

Completed Actions

191. Setting and Adjusting Patent Fees During Fiscal Year 2020

E.O. 13771 Designation: Fully or Partially Exempt.

Legal Authority: 35 U.S.C. 2(b)(2); 5 U.S.C. 500; 15 U.S.C. 1123; 35 U.S.C. 32; 35 U.S.C. 41; Pub. L. 113-227; 35 U.S.C. 3(a)(2)(A); 35 U.S.C. 21; 35 U.S.C. 23; 35 U.S.C. 134; 35 U.S.C. 135; Pub. L. 112-29; 35 U.S.C. 6; 35 U.S.C. 311; 35 U.S.C. 231; 35 U.S.C. 321-326; Pub. L. 112-274

Abstract: The USPTO operates like a business in that it fulfills requests for intellectual property products and services that are paid for by users of those services. The USPTO takes this action to set and adjusts patent fee amounts to provide sufficient aggregate revenue to cover aggregate cost of operations.

Timetable:

Action | Date | FR Cite
NPRM | 07/31/19 | 84 FR 37398
NPRM Comment Period End | 09/30/19 |
Final Action | 08/03/20 | 85 FR 46932
Correction | 09/18/20 | 85 FR 58282
Final Action Effective | 10/02/20 |
Correction Effective | 10/02/20 |

Regulatory Flexibility Analysis Required: Yes.

Agency Contact: Brendan Hourigan, Director, Office of Planning and Budget, Department of Commerce, Patent and Trademark Office, P.O. Box 1450, Alexandria, VA 22313-1450, Phone: 571 272-8966, Fax: 571 273-8966, Email: brendan.hourigan@uspto.gov.

RIN: 0651-AD31

[FR Doc. 2021-04469 Filed 3-30-21; 8:45 am]

BILLING CODE 3510-12-P